DEPARTMENT OF THE TREASURY

Alcohol and Tobacco Tax and Trade Bureau

27 CFR Part 9

[Notice No. 38]

RIN 1513-AA94

Proposed Establishment of the Ramona Valley Viticultural Area (2003R-375P)

AGENCY: Alcohol and Tobacco Tax and Trade Bureau (TTB), Treasury.

ACTION: Notice of proposed rulemaking.

SUMMARY: The Alcohol and Tobacco Tax and Trade Bureau proposes to establish the 89,000-acre Ramona Valley viticultural area in central San Diego County, California. The proposed area is entirely within the established South Coast viticultural area. We designate viticultural areas to allow vintners to better describe the origin of their wines and to allow consumers to better identify wines they may purchase. We invite comments on this proposed addition to our regulations.

DATES: We must receive written comments on or before May 31, 2005.

ADDRESSES: You may send comments to any of the following addresses:

• Chief, Regulations and Procedures Division, Alcohol and Tobacco Tax and Trade Bureau, Attn: Notice No. 38, P.O. Box 14412, Washington, DC 20044-4412.

• 202-927-8525 (facsimile).

• nprm@ttb.gov (e-mail).

• http://www.ttb.gov/alcohol/rules/index.htm. An online comment form is posted with this notice on our Web site.

• http://www.regulations.gov (Federal e-rulemaking portal; follow instructions for submitting comments).

You may view copies of this notice, the petition, the appropriate maps, and any comments we receive about this notice by appointment at the TTB Library, 1310 G Street, NW., Washington, DC 20220. To make an appointment, call 202-927-2400. You may also access copies of the notice and comments online at http://www.ttb.gov/alcohol/rules/index.htm.

See the Public Participation section of this notice for specific instructions and requirements for submitting comments, and for information on how to request a public hearing.

FOR FURTHER INFORMATION CONTACT: N. A. Sutton, Alcohol and Tobacco Tax and Trade Bureau, Regulations and Procedures Division, 925 Lakeville St., # 158, Petaluma, California 94952; telephone 415-271-1254.

SUPPLEMENTARY INFORMATION:

Background on Viticultural Areas

TTB Authority

Section 105(e) of the Federal Alcohol Administration Act (the FAA Act, 27 U.S.C. 201 et seq.) requires that alcohol beverage labels provide the consumer with adequate information regarding a product's identity and prohibits the use of misleading information on such labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, soils, elevation, and physical features, that distinguish the proposed viticultural area from surrounding areas;

• A description of the specific boundary of the proposed viticultural area, based on features found on United States Geological Survey (USGS) maps; and

• A copy of the appropriate USGS map(s) with the proposed viticultural area's boundary prominently marked.

Ramona Valley Petition

TTB received a petition from the Ramona Vineyard Association of Ramona, California, proposing to establish the Ramona Valley viticultural area in central San Diego County, California. Surrounding the town of Ramona, the proposed viticultural area is located 28 miles northeast of the city of San Diego, and is entirely within the established, multi-county South Coast viticultural area (27 CFR 9.104). It is also south of two other established viticultural areas located within the South Coast area, Temecula Valley (27 CFR 9.50) and San Pasqual Valley (27 CFR 9.25). The proposed 89,000-acre Ramona Valley viticultural area contains approximately 17 vineyards currently cultivating an estimated 45 acres of wine grapes.

The distinguishing factors of the proposed Ramona Valley viticultural area, according to the petitioners, include its elevation, which contrasts with the surrounding areas, and climatic factors related to its elevation and inland location. Oriented west-southwest to east-northeast, the proposed area is roughly centered on the town of Ramona and is about 14.5 miles long and 9.5 miles wide.

Below, we summarize the evidence presented in the petition.

Name Evidence

Californians have used the “Ramona Valley” name for at least a century, according to information provided by the petitioners. For example, the petitioners supplied several articles and book excerpts showing the name's historical use. In 1906, historian Ed Fletcher wrote “An Auto Trip Through San Diego's Back Country.” As published in volume 15, number 2, spring 1969, of the Journal of San Diego History, the article makes several references to Ramona Valley and its geography, climate, and agricultural potential. Mr. Fletcher states, “The higher valley lands can easily be covered with water from the mountain streams, but a railroad is absolutely necessary, and when it does come, Ramona Valley will be heard from.”

In 1963, Richard F. Pourade wrote “The Silver Dons 1833-1865,” which is in volume three of “The History of San Diego.” He describes the difficulty of reaching the Ramona Valley by different routes during the area's settlement. Mr. Pourade writes, “Both routes had difficult climbs, the San Pasqual route at the San Pasqual hill and the Lakeside route in the last mile before reaching the Ramona Valley.”

In 1961, Clarence Woodson wrote “Tea-Kettle Days,” published in the San Diego Historical Society Quarterly, volume 7, number 4, October 1961. He explains, “My grandfather, Dr. M. C. Woodson served as a surgeon in the Confederate Army, and a few years after the Civil War he brought my father and the rest of the family out to California from Paducah, Ky. He homesteaded land in the Ramona Valley in 1873 * * *.”

In addition, the proposed Ramona Valley viticultural area surrounds the San Diego County town of Ramona, which lies in a flat, broad valley largely isolated by the surrounding hills and moutains. Several businesses within the proposed area use “Ramona Valley” in their names, including the Ramona Valley Inn, which was established in 1981 on Main Street in Ramona.

Boundary Evidence

To outline the boundary of the proposed Ramona Valley viticultural area, the petitioners use a series of mountain peaks around the valley in which the town of Ramona lies. This boundary also incorporates several smaller side valleys and canyons, especially to the east and south of the town, within the proposed area. According to the petitioners, the proposed Ramona Valley viticultural area boundary is based on historical and current viticulture within the area, and on the area's geographical features.

The history of Ramona Valley viticulture, the petitioners explain, began with the arrival of Spanish missionaries in 1769. American viticulture is documented as early as 1889, with wine grapes grown at Rancho Bernardo for use at the Bernardo Winery. In modern times, Ross Rizzo, the master vintner at Bernardo Winery, recalls that there may have been up to a thousand acres of wine grapes in Ramona Valley between the 1940s and the 1950s. Finally, the Schwaesdall Winery, which opened in 1993, uses grape vines planted in the Ramona Valley in the 1950s, as well as their own plantings, begun in 1989.

The proposed Ramona Valley viticultural area's elevation, which is between that of the lower coastal valleys to the north, south, and west, and that of the surrounding mountains and the higher desert-like areas to the west, also distinguishes the valley from surrounding areas, according to the petitioners. Climatic factors related to the valley's elevation and its inland location also distinguish the proposed viticultural area from nearby grape-growing regions, the petitioners add. These factors are discussed in more detail below.

Distinguishing Features

Geography

The proposed Ramona Valley viticultural area encompasses a fairly flat, broad valley and several of its side valleys and canyons in central San Diego County. A ring of hills and mountains around the valley largely isolate it from surrounding regions of the county. Santa Maria Creek flows west through the proposed area before passing through a narrow gap in the hills near the area's northwestern corner. The unincorporated town of Ramona, with a population of about 40,000, lies within the proposed area at the junction of State Routes 67 and 78.

The lowest elevation within the area, 650 feet, is at the San Vicente Reservoir at the proposed area's southwestern corner. Elevations within the northern, southern, and western portions of the area run between 650 and 1,600 feet, with an average base elevation of about 1,400 feet. The proposed area climbs to more than 3,000 feet in the east in the foothills of the Cuyamaca Mountains. According to the petitioners, the highest elevation suitable for viticulture within the proposed area is 2,640 feet.

To the south, west and north of the proposed Ramona Valley viticultural area are lower coastal valleys with elevations of 500 feet or less, according to the petitioner and USGS maps. The proposed Ramona Valley area is lower in elevation than the Cuyamaca Mountain range to the east, which has peaks of approximately 6,200 feet, according to the submitted USGS maps.

Climate

The proposed Ramona Valley's elevation, between that of the lower coastal valleys and the higher surrounding mountains, and its inland location, distinguish the proposed Ramona Valley viticultural area climate from those of surrounding regions, the petitioners state. The petitioners also note that, with the Anza-Borrego Desert 25 miles to the east and the Pacific Ocean 25 miles to the west, a combination of desert and ocean influences affect the proposed area's climate during the growing season.

Also known locally as “the Valley of the Sun” due to its lack of coastal morning fog, the proposed Ramona Valley viticultural area is warmer than the coastal areas and valleys to its north, south, and west. The proposed area enjoys up to 320 frost-free days and has a heat summation of 3,470 degree days annually, according to the petitioner. (During the growing season, one degree day accumulates for each degree Fahrenheit that a day's average temperature is above 50 degrees, which is the minimum temperature required for grapevine growth. See “General Viticulture,” by Albert J. Winkler, University of California Press, 1974.) However, the proposed area is cooler in the summer, but warmer in the winter, than the higher Cuyamaca Mountains to its east. A comparison of daily temperature variations between Ramona and Poway, Escondido, and Julian indicates that Ramona also has greater daily temperature fluctuations than the surrounding areas, according to data provided by the petitioner.

The Ramona Valley area receives an annual average rainfall total of 16.5 inches, according to the Navigation Technologies data provided with the petition. This rainfall total is more than that of the lower coastal valleys, but less than the 31-inch average received at Julian in the higher mountains to the proposed area's east according to Navigation Technologies data.

Soils

The proposed Ramona Valley viticultural area has a variety of soil types due to the differing landforms, slopes, and geology found within it, according to the petitioners. While the petitioners did provide information on the proposed area's soils, they do not use soils as a distinguishing factor for the proposed area. The mountains surrounding the proposed area, the petitioners state, consist of igneous rock. Also, the mid-slopes to the east and west of the Ramona Valley floor have the reddish coloration of San Marcos Gabbro, a mafic rock type. Mafic rock formations, the petitioners explain, are known to generate nutrient-rich soil, which is ideal for agriculture.

The proposed Ramona Valley viticultural area's soil series include Ramona, Visalia, Los Posas, and Fallbrook loams, according to the petitioners. The Ramona soil series, as documented in the 1973 U.S. Soil Conservation Service Soil Survey for San Diego County consists of well-drained, very deep sandy loams with sandy clay loam subsoil. This series is found between the 200-foot and 1,800-foot elevations on terraces and alluvial fans, sloping up to 30 percent, according to the soil survey.

Boundary Description

See the narrative boundary description of the petitioned-for viticultural area in the proposed regulatory text published at the end of this notice.

Maps

The petitioner provided the required maps, and we list them below in the proposed regulatory text.

Impact on Current Wine Labels

Part 4 of the TTB regulations prohibits any label reference on a wine that indicates or implies an origin other than the wine's true place of origin. If we establish this proposed viticultural area, its name, “Ramona Valley,” will be recognized as a name of viticultural significance. Consequently, wine bottlers using “Ramona Valley” in a brand name, including a trademark, or in another label reference as to the origin of the wine, will have to ensure that the product is eligible to use the viticultural area's name as an appellation of origin. On the other hand, we do not believe that “Ramona” standing alone would have viticultural significance if the new area were established. We note in this regard that while searches of the Geographic Names Information System maintained by the U.S. Geological Survey show no entries for “Ramona Valley,” there are entries for “Ramona” standing alone or in conjunction with words other than “Valley” in 18 States, including 8 different California counties. Accordingly, the proposed part 9 regulatory text set forth in this document specifies only the full “Ramona Valley” name as a term of viticultural significance for purposes of part 4 of the TTB regulations.

For a wine to be eligible to use as an appellation of origin the name of a viticultural area specified in part 9 of the TTB regulations, at least 85 percent of the grapes used to make the wine must have been grown within the area represented by that name. If the wine is not eligible to use the viticultural area name as an appellation of origin and that name appears in the brand name, then the label is not in compliance and the bottler must change the brand name and obtain approval of a new label. Similarly, if the viticultural area name appears in another reference on the label in a misleading manner, the bottler would have to obtain approval of a new label. Accordingly, if a new label or a previously approved label uses the name “Ramona Valley” for a wine that does not meet the 85 percent standard, the new label will not be approved, and the previously approved label will be subject to revocation, upon the effective date of the approval of the Ramona Valley viticultural area.

Different rules apply if a wine has a brand name containing a viticultural area name that was used as a brand name on a label approved before July 7, 1986. See 27 CFR 4.39(i)(2) for details.

Public Participation

Comments Invited

We invite comments from interested members of the public on whether we should establish the proposed viticultural area. We are also interested in receiving comments on the sufficiency and accuracy of the name, climatic, boundary and other required information submitted in support of the petition. Please provide any available specific information in support of your comments.

Because of the potential impact of the establishment of the proposed Ramona Valley viticultural area on brand labels that include the words “Ramona Valley” as discussed above under Impact on Current Wine Labels, we are particularly interested in comments regarding whether there will be a conflict between the proposed area name and currently used brand names. If a commenter believes that a conflict will arise, the comment should describe the nature of that conflict, including any negative economic impact that approval of the proposed viticultural area will have on an existing viticultural enterprise. We are also interested in receiving suggestions for ways to avoid any conflicts, for example by adopting a modified or different name for the viticultural area.

Although TTB believes that only the full name “Ramona Valley” should be considered to have viticultural significance upon establishment of the proposed new viticultural area, we also invite comments from those who believe that “Ramona” standing alone would have viticultural significance upon establishment of the area. Comments in this regard should include documentation or other information supporting the conclusion that use of “Ramona” on a wine label could cause consumers and vintners to attribute to the wine in question the quality, reputation, or other characteristic of wine made from grapes grown in the proposed Ramona Valley viticultural area.

Submitting Comments

Please submit your comments by the closing date shown above in this notice. Your comments must include this notice number and your name and mailing address. Your comments must be legible and written in language acceptable for public disclosure. We do not acknowledge receipt of comments, and we consider all comments as originals. You may submit comments in one of five ways:

• Mail: You may send written comments to TTB at the address listed in the ADDRESSES section.

• Facsimile: You may submit comments by facsimile transmission to 202-927-8525. Faxed comments must—

(1) Be on 8.5- by 11-inch paper;

(2) Contain a legible, written signature; and

(3) Be no more than five pages long. This limitation assures electronic access to our equipment. We will not accept faxed comments that exceed five pages.

• E-mail: You may e-mail comments to nprm@ttb.gov. Comments transmitted by electronic mail must—

(1) Contain your e-mail address;

(2) Reference this notice number on the subject line; and

(3) Be legible when printed on 8.5- by 11-inch paper.

• Online form: We provide a comment form with the online copy of this notice on our Web site at http://www.ttb.gov/alcohol/rules/index.htm. Select the “Send comments via e-mail” link under this notice number.

• Federal e-rulemaking portal: To submit comments to us via the Federal e-rulemaking portal, visit http://www.regulations.gov and follow the instructions for submitting comments.

You may also write to the Administrator before the comment closing date to ask for a public hearing. The Administrator reserves the right to determine, in light of all circumstances, whether to hold a public hearing.

Confidentiality

All submitted material is part of the public record and subject to disclosure. Do not enclose any material in your comments that you consider confidential or inappropriate for public disclosure.

Public Disclosure

You may view copies of this notice, the petition, the appropriate maps, and any comments we receive by appointment at the TTB Library at 1310 G Street, NW., Washington, DC 20220. You may also obtain copies at 20 cents per 8.5- x 11-inch page. Contact our librarian at the above address or by telephone at 202-927-2400 to schedule an appointment or to request copies of comments.

For your convenience, we will post this notice and any comments we receive on this proposal on the TTB Web site. We may omit voluminous attachments or material that we consider unsuitable for posting. In all cases, the full comment will be available in the TTB Library. To access online copies of this notice and the posted comments, visit http://www.ttb.gov/alcohol/rules/index.htm. Select the “View Comments” link under this notice number to view the posted comments.

Regulatory Flexibility Act

We certify that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866, 58 FR 51735. Therefore, it requires no regulatory assessment.

Drafting Information

N.A. Sutton of the Regulations and Procedures Division drafted this notice.

List of Subjects in 27 CFR Part 9

Wine.

Proposed Regulatory Amendment

For the reasons discussed in the preamble, we propose to amend 27 CFR, chapter 1, part 9, as follows:

PART 9—AMERICAN VITICULTURAL AREAS

1. The authority citation for part 9 continues to read as follows:

Authority: 27 U.S.C. 205.

2. Amend subpart C by adding § 9.__ to read as follows:

Subpart C—Approved American Viticultural Areas

§ 9.__ Ramona Valley.

(a) Ramona Valley. The name of the viticultural area described in this section is “Ramona Valley”. For purposes of part 4 of this chapter, “Ramona Valley” is a term of viticultural significance.

(b) Approved Maps. The two United States Geological Survey (USGS) 1:100,000 scale topographic (30 x 60 Minute Quadrangle) maps used to determine the boundaries of the Ramona Valley viticultural area are titled—

(1) Borrego Valley, California, 1982 edition; and

(2) El Cajon, California, 1979 edition.

(c) Boundary. The Ramona Valley viticultural area is located in central San Diego County, California. The area's boundaries are defined as follows—

(1) Beginning in the southwest corner of the Borrego Valley map at the 882-meter (2,894-foot) peak of Woodson Mountain, T13S, R1W, proceed straight north-northwest approximately 3.25 miles to the 652-meter (2,140-foot) peak of Starvation Mountain, T13S, R1W (Borrego Valley map); then

(2) Proceed straight east-northeast approximately 12.5 miles to the Gaging Station on the northwest shoreline of Sutherland Lake, T12S, R2E (Borrego Valley map); then

(3) Proceed straight southeast approximately 4.4 miles to the 999-meter (3,278-foot) peak of Witch Creek Mountain, T13S, R2E, east of Ballena Valley (Borrego Valley map); then

(4) Proceed straight south-southeasterly approximately 6.6 miles, crossing onto the El Cajon map, to the summit of Eagle Peak (3,166 feet), T14S, R3E, northeast of the El Capitan Reservoir (El Cajon map); then

(5) Proceed straight west-southwest approximately 12.7 miles, passing through Barona Valley, to the peak (1002 feet) near the center of the unnamed island in the San Vicente Reservoir, T14S, R1E (El Cajon map); then

(6) Proceed straight northwesterly approximately 3.9 miles to the 822-meter (2,697-foot) peak of Iron Mountain, T14S, R1W (El Cajon map); then

(7) Proceed straight north-northwest approximately 2.8 miles, crossing onto the Borrego Valley map, and return to the beginning point at the peak of Woodson Mountain.

Signed: March 7, 2005.
John J. Manfreda,
Administrator.

[FR Doc. 05-6352 Filed 3-30-05; 8:45 am]

BILLING CODE 4810-31-P